NATIONAL FOUNDATION OF THE ARTS AND THE HUMANITIES

Institute of Museum and Library Services

47th Meeting of the National Museum and Library Services Board; Correction

AGENCY: Institute of Museum and Library Services (IMLS), National Foundation of the Arts and the Humanities (NFAH).

ACTION: Notice; correction.

SUMMARY: IMLS published a document in the Federal Register of June 26, 2023, concerning notice of the 47th National Museum and Library Services Board meeting on July 18th, 2023. Since then, the agency has updated its agenda.

FOR FURTHER INFORMATION CONTACT: Katherine Maas, Chief of Staff and Alternate Designated Federal Officer, (202) 653-4798; kmaas@imls.gov.

SUPPLEMENTARY INFORMATION:

Correction

In the Federal Register of June 26, 2023, in FR Doc. 2023-13421, on page 41421, at the bottom of the third column, please adjust the agenda to read:

I. Call to Order

II. Approval of Minutes of the 46th Meeting

III. Director's Welcome and Update

IV. Program Overview—Library Grants to State Program

V. IMLS 250—Preparing for the Upcoming 250th Anniversary of the United States

VI. Advancing Information Literacy

VII. National Medals for Museum and Library Services Program

VIII. Adjourn Meeting

Dated: July 11, 2023.
Brianna Ingram,
Paralegal Specialist.

[FR Doc. 2023-14978 Filed 7-13-23; 8:45 am]

BILLING CODE 7036-01-P